DEPARTMENT OF EDUCATION

[Docket ID ED-FSA-2023-0085]

Privacy Act of 1974; System of Records

AGENCY: Federal Student Aid, U.S. Department of Education.

ACTION: Notice of a modified system of records.

SUMMARY: In accordance with the Privacy Act of 1974, as amended (Privacy Act), the U.S. Department of Education (Department) publishes this notice of a modified system of records entitled the “National Student Loan Data System” (NSLDS) (18-11-06). The information contained in this system is maintained for various purposes relating to aid applicants and recipients. These include determining aid applicants' and recipients' eligibility for Federal student financial assistance under the programs authorized by title IV of the Higher Education Act of 1965, as amended (HEA); assisting institutions of higher education participating in and administering the title IV, HEA programs by verifying the eligibility of aid recipients for, and tracking, Federal student loans; and assisting the Department's oversight and administration of the title IV, HEA programs, including evaluating their effectiveness.

DATES: Submit your comments on this modified system of records notice on or before July 28, 2023.

This modified system of records notice will become applicable upon publication in the Federal Register on June 28, 2023, unless it needs to be changed as a result of public comment. The Department will publish any changes to the modified system of records notice resulting from public comment.

ADDRESSES: Comments must be submitted via the Federal eRulemaking Portal at regulations.gov. However, if you require an accommodation or cannot otherwise submit your comments via regulations.gov, please contact the program contact listed under FOR FURTHER INFORMATION CONTACT. The Department will not accept comments submitted by fax or by email, or comments submitted after the comment period closes. To ensure that the Department does not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under the “FAQ” tab.

Privacy Note: The Department's policy is to make comments received from members of the public available for public viewing in their entirety on the Federal eRulemaking Portal at www.regulations.gov. Therefore, commenters should be careful to include in their comments only information that they wish to make publicly available.

Assistance to Individuals with Disabilities in Reviewing the Rulemaking Record: On request, we will provide an appropriate accommodation or auxiliary aid to an individual with a disability who needs assistance to review the comments or other documents in the public rulemaking record for this notice. If you want to schedule an appointment for this type of accommodation or auxiliary aid, please contact the person listed under FOR FURTHER INFORMATION CONTACT.

FOR FURTHER INFORMATION CONTACT: Valerie Sherrer, Director, Partner System Integration Division, Program Technical and Business Support, Partner Participation and Oversight Directorate, Federal Student Aid, U.S. Department of Education, UCP, 830 First St. NE, Room 41F1, Washington, DC 20202-5454. Telephone: 202 377 3547. Email: Valerie.Sherrer@ed.gov.

If you use a telecommunications device for the deaf (TDD) or a text telephone (TTY), you may call the Federal Relay Service (FRS), toll free, at 1-800-877-8339.

SUPPLEMENTARY INFORMATION:

Introduction

In accordance with the Privacy Act, the Department proposes to modify the system of records notice entitled, “National Student Loan Data System (NSLDS)” (18-11-06), which was last published in full in the Federal Register on September 22, 2022 (87 FR 57873).

The Department is modifying this system of records notice by making a global change to delete and replace “store” or “stored” with “maintain” or “maintained,” as applicable, to better align with the terminology used in the Privacy Act.

The Department is modifying this system of records notice by making a global change to delete and replace “borrowers” with “aid recipients,” to be more consistent with previous changes.

The Department is modifying the section entitled “SYSTEM LOCATION” as follows:

(i) To update the description of the Amazon Web Services (AWS) from a “computer” to “hosting” center to better align with industry terminology; and

(ii) To update the address of ASM Research from Niagara Falls, NY, to Fairfax, VA.

The Department is modifying the section entitled “PURPOSE(S) OF THE SYSTEM” relating to applicants and recipients of aid under title IV of the HEA as follows:

(i) Purpose (5) is updated to include approved Prison Education Programs (PEPs) (the FAFSA Simplification Act allows for expanding access to Federal Pell Grants to include Federal and State penal facilities' approved educational programs), and money earned by students under the Federal Work-Study (FWS) Program; and

(ii) Purpose (8) is updated to replace the references to “postsecondary institutions” and “postsecondary institution” with “postsecondary institutions and programs” to clarify the Department's evaluation of postsecondary institutions' instructional programs for effectiveness for use in consumer tools.

The Department is modifying the section entitled “PURPOSE(S) OF THE SYSTEM” relating to the institutions of higher education (also referred to herein as “educational institutions” or “postsecondary institutions”) participating in and administering the title IV, HEA programs as follows:

(i) Purpose (13) is updated to replace the references to “postsecondary institutions” and “postsecondary institution” with “postsecondary institutions and programs” to clarify the Department's evaluation of postsecondary institutions' instructional programs for effectiveness for use in consumer tools; and

(ii) Purpose (14) is updated to delete and replace “challenge” with “ensure the accuracy of” to clarify the purpose of providing data for gainful employment performance metrics.

The Department is modifying the section entitled “PURPOSE(S) OF THE SYSTEM” relating to the Department's oversight and administration of title IV, HEA programs as follows:

(i) Purpose (2) is updated to delete and replace “studies and policy development” with “analysis and development, and the implementation and evaluation of educational policies in relation to title IV, HEA programs”;

(ii) Purpose (9) is updated to clarify that this system assists in the calculation of metrics related to other title IV, HEA educational programs than just gainful employment programs; and

(iii) Purpose (17) is added to provide title IV, HEA loan information to support the calculation of payment amounts under Income-Driven Repayment (IDR) plans.

The Department is modifying the fourth paragraph of the section entitled “CATEGORIES OF INDIVIDUALS COVERED BY THE SYSTEM” to indicate that the system contains records on aid recipients under the FWS Program and the Federal Supplemental Educational Opportunity Grant (FSEOG) Program.

The Department is modifying the section entitled “CATEGORIES OF RECORDS IN THE SYSTEM” as follows:

(i) The Department added a new note that explains that the Federal Tax Information (FTI) the Department will directly obtain from the Internal Revenue Service (IRS) under the Fostering Undergraduate Talent by Unlocking Resources for Education (FUTURE) Act will not be maintained in this system of records but in a separate system of records entitled the “FUTURE Act System (FAS)” (18-11-23), for which the Department will publish a system of records notice in the Federal Register;

(ii) Category (1) is updated to replace “driver's license information” with “driver's license number and State of issuance;”

(iii) Category (2) is updated to include an incarcerated student indicator flag for identification and tracking of aid recipients;

(iv) Category (4) is updated to clarify that driver's license details consist of driver's license number and State of issuance;

(v) Category (7) is updated to include “Student Aid Index (SAI),” which corresponds with the new definition as defined in Section 473(a) of the HEA, as amended by the FAFSA Simplification Act and the FAFSA Simplification Act Technical Corrections Act;

(vi) Category (8) is updated to add the spouse of an independent aid applicant or aid recipient, the parent(s) of a dependent aid applicant, and starting with award year 2024-2025, the parents' college attendance status;

(vii) Category (9) is updated to include if the IDR aid applicant or aid recipient (or spouse, where applicable), provided consent/affirmative approval both to redisclose Federal Tax Information (FTI) of such individuals pursuant to clauses (iii), (iv), (v), and (vi) of section 6103(l)(13)(D) of the Internal Revenue Code (IRC) of 1986 and for disclosure under section 494(a) of the HEA (20 U.S.C. 1098h(a)) of information to the IRS for the IRS to disclose FTI to the Department as part of a matching program to determine eligibility for, or repayment obligations under, IDR plans under title IV of the HEA with respect to loans under part D (Direct Loan program) of title IV of the HEA; to include repayment amount; and to delete and replace “borrower” with “aid recipient”;

(viii) Category (10) is updated to include FSEOG and for Federal Pell Grants, approved PEPs (the FAFSA Simplification Act allows for expanding access to Federal Pell Grants to include Federal and State penal facilities' approved educational programs) to track aid recipients;

(ix) Category (11) is updated to include earnings amounts under the FWS Program to track individuals with FWS; and

(x) Category (19) is updated to clarify that the system includes information provided and generated through customer interactions with contact center support via inbound and outbound channels (phone, chat, webform, email, customer satisfaction survey, fax, physical mail, and digital engagement platforms), including chat transcripts, email communications, audio recordings of customer calls, and screen recordings of contact center desktop support during customer interactions.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Richard Cordray,
Chief Operating Officer, Federal Student Aid.

For the reasons discussed in the preamble, the Chief Operating Officer, Federal Student Aid, U.S. Department of Education (Department) publishes a notice of a modified system of records to read as follows:

SYSTEM NAME AND NUMBER:

National Student Loan Data System (NSLDS) (18-11-06).

SECURITY CLASSIFICATION:

Unclassified.

SYSTEM LOCATION:

Director, Partner Systems Integration Division, Program Technical and Business Support Group, Partner Management and Support Services, Partner Participation and Oversight, Federal Student Aid (FSA), U.S. Department of Education, Union Center Plaza (UCP), 830 First St. NE, Room 41F1, Washington, DC 20202-5454.

Amazon Web Services (AWS) Government Cloud, 410 Terry Ave., North Seattle, WA 98109-5210. (This is the hosting center for the NSLDS application, where all electronic NSLDS information is processed and maintained.)

Accenture, 22451 Shaw Rd., Sterling, VA 20166-4319. (This is Accenture's main program office.)

Accenture DC, 820 First St. NE, Washington, DC 20202-4227. (This location is an alternate Accenture work site to support NSLDS.)

Accenture Federal Services, 10931 Laureate Dr., San Antonio, TX 78249. (This location is an alternate Accenture work site to support NSLDS.)

NTT Global Data Centers Americas, 44664 Guilford Dr., Ashburn, VA 20147 and 2008 Lookout Dr., Garland, TX 75044. (NSLDS call recordings are maintained at these locations.)

Oracle Service Cloud, 500 Eldorado Blvd., Broomfield, CO 80021. (Provides customer case management and reporting capabilities to NSLDS Help Desk Customer Service Representatives (CSRs) and has the capability to track and maintain NSLDS inquiries, which allows CSRs to respond to these cases/inquiries.)

The following three listings are the locations of the NSLDS Customer Service Centers:

ASM Research, 4050 Legato Rd., #1100, Fairfax, VA 22033;

Senture, LLC, 4255 W. Highway 90, Monticello, KY 42633-3398; and

Veteran Call Center, LLC, 53 Knightsbridge Rd., Suite 216, Piscataway, NJ 08854-3925.

SYSTEM MANAGER(S):

Director, Partner Systems Integration Division, Program Technical and Business Support Group, Partner Participation and Oversight Directorate, Federal Student Aid, U.S. Department of Education, UCP, 830 First St. NE, Room 41F1, Washington, DC 20202-5454.

AUTHORITY FOR MAINTENANCE OF THE SYSTEM:

The authority under which the system is maintained includes sections 101, 102, 132(i), 485, and 485B of the Higher Education Act of 1965, as amended (HEA) (20 U.S.C. 1001, 1002, 1015a(i), 1092, and 1092b), section 431(2) and (3) of the General Education Provisions Act (20 U.S.C. 1231a(2)-(3)), and the Higher Education Relief Opportunities for Students Act of 2003 (20 U.S.C. 1098bb) (including any waivers or modifications that the Secretary of Education deems necessary to make to any statutory or regulatory provision applicable to the student financial assistance programs under title IV of the HEA to achieve specific purposes listed in the section in connection with a war, other military operation, or a national emergency). The collection of Social Security numbers (SSNs) of individuals who are covered by this system is authorized by 31 U.S.C. 7701 and Executive Order 9397 (November 22, 1943), as amended by Executive Order 13478 (November 18, 2008).

PURPOSE(S) OF THE SYSTEM:

The information contained in this system is maintained for the following purposes relating to applicants and recipients of aid under title IV of the HEA:

(Note: Different parts of the HEA use the terms “discharge,” “cancellation,” or “forgiveness” to describe when a aid recipient's loan amount is reduced in whole or in part by the Department. To reduce complexity, this system of records notice uses the term “discharge” to include all three terms (“discharge,” “cancellation,” and “forgiveness”), including, but not limited to, discharges of student loans made pursuant to specific benefit programs. At times, the system of records notice may refer by name to a specific benefit program, such as the “Public Service Loan Forgiveness” program; such specific references are not intended to exclude any such program benefits from more general references to loan discharges.)

(1) to determine the eligibility of aid applicants and recipients for Federal student financial aid programs authorized by title IV of the HEA;

(2) to report changes in aid applicant and recipient enrollment status and enrollment in gainful employment programs;

(3) to track aid recipients who owe title IV, HEA obligations (debtors);

(4) to maintain information on the status of student loans;

(5) to maintain information on awards to students under the Federal Pell Grant program (including approved Prison Education Programs (PEPs) (the FAFSA Simplification Act allows for expanding access to Federal Pell Grants to include Federal and State penal facilities' approved educational programs), the Academic Competitiveness Grant (ACG) program, the National Science and Mathematics Access to Retain Talent (National SMART) Grant program, the Teacher Education Assistance for College and Higher Education (TEACH) Grant program, the Federal Supplemental Educational Opportunity Grant (FSEOG) program, the Iraq and Afghanistan Service Grant program,, and money earned under the Federal Work Study (FWS) Program;

(6) to provide aid recipients and NSLDS users with loan refund and discharge details;

(7) to identify qualifying individuals and inform them about title IV, HEA benefits, including total and permanent disability (TPD) discharges, Public Service Loan Forgiveness (PSLF), and benefits under the Servicemembers Civil Relief Act (SCRA), 50 U.S.C. 3901-4043, to streamline the process for applying for loans and benefits, and to recoup payments or delinquent debts under the title IV, HEA programs;

(8) to provide consumer tools to the public to better evaluate the effectiveness of postsecondary institutions and programs, considering their costs, financial aid, loan repayment rates, completion rates, median debts, and the aggregate earnings of title IV, HEA aid recipients who were enrolled at postsecondary institutions and programs participating in the title IV, HEA programs, so that the public can make informed decisions about which postsecondary institutions and programs to attend;

(9) to enable the Department, or other Federal, State, Tribal, or local government agencies, to investigate, respond to, or resolve complaints concerning the practices or processes of the Department and/or the Department's contractors, or to investigate, respond to, or resolve aid recipients' requests for assistance or relief with regard to title IV, HEA program funds;

(10) to conduct testing, analysis, or take other administrative actions needed to prepare for or execute programs under title IV of the HEA; and

(11) to process income eligibility information and documentation for aid applicants and recipients, or applicable aid applicants' and recipients' parents or spouses, pertaining to the discharge of eligible loans under title IV, HEA programs.

The information in the NSLDS is also maintained for the following purposes relating to institutions of higher education (also referred to herein as “educational institutions” or “postsecondary institutions”) participating in and administering the title IV, HEA programs:

(1) to permit Department staff, Department contractors, guaranty agencies, eligible lenders, and eligible institutions of higher education to verify the eligibility of a student, potential student, or parent for loans or Pell Grants or Pell Grant disbursements;

(2) to provide student aggregate loan calculations to educational institutions;

(3) to determine default rates for educational institutions, guaranty agencies, and lenders;

(4) to prepare electronic financial aid histories on aid applicants and recipients for educational institutions, guaranty agencies, Department staff, and Department contractors;

(5) to alert educational institutions of changes in students' financial aid eligibility via the Transfer Student Monitoring process;

(6) to assist Department staff, Department contractors and agents, guaranty agencies, the Department of Justice (DOJ), educational institutions, lenders, and servicers in collecting debts arising from the receipt of title IV, HEA funds;

(7) to assess title IV, HEA program activities by guaranty agencies, educational institutions, lenders, and servicers;

(8) to display organizational contact information provided by educational institutions, guaranty agencies, lenders, and servicers;

(9) to provide reporting capabilities for educational institutions, guaranty agencies, lenders, and servicers for use in title IV, HEA administrative functions and for the Department or other Federal, State, Tribal, or local agencies for use in oversight and compliance;

(10) to provide financial institutions and servicers, Department staff, and Department contractors with contact information on loan holders for use in the collection of loans;

(11) to provide educational institutions and servicers with information to resolve overpayments of Pell, ACG, National SMART, TEACH, Iraq and Afghanistan Service Grants, and FSEOG grants;

(12) to obtain data on and to report on students in a gainful employment program for the purposes of establishing whether a particular gainful employment program is successfully preparing students to be gainfully employed and making this information available to the educational institution;

(13) to provide consumer tools, such as the College Scorecard, that are designed to simplify information that prospective students receive about costs, financial aid, loan repayment rates, completion rates, median debts, and aggregate earnings of title IV, HEA aid recipients who were enrolled at postsecondary institutions and programs participating in the title IV, HEA programs so that prospective students can make informed decisions about which postsecondary institutions and programs to attend; and

(14) to provide data for educational institutions to ensure the accuracy of their gainful employment performance metrics.

The information maintained in this system is also maintained for the following purposes relating to the Department's oversight and administration of the title IV, HEA programs:

(1) to assist audit and program review planning;

(2) to support research, analysis and development, and the implementation and evaluation of educational policies in relation to title IV, HEA programs;

(3) to conduct budget analysis and program review planning;

(4) to provide information that supports the Department's compliance with the Federal Credit Reform Act of 1990, as amended (CRA) (2 U.S.C. 661 et seq.);

(5) to ensure only authorized users access the NSLDS database and to maintain a history of the aid applicant and recipient information reviewed;

(6) to track the Department's interest in loans funded through the Ensuring Continued Access to Student Loans Act of 2008 (ECASLA) (Pub. L. 110-227);

(7) to track TEACH grants that have been converted to loans;

(8) to track eligibility for PSLF;

(9) to assist in the calculation of metrics related to gainful employment and other title IV, HEA educational programs;

(10) to provide data for program oversight and strategic decision-making in the administration of higher education programs;

(11) to track eligibility for Direct Subsidized Loans and interest subsidy based upon the level of study, Classification of Instructional Programs (CIP) code, and published length of the educational program in which a student is enrolled;

(12) to evaluate the effectiveness of an institution's education programs, and help provide information to the public at the institutional and programmatic level on this effectiveness;

(13) to verify that Federal, State, local, and Tribal statutory, regulatory, and program requirements are met by educational and financial institutions, Federal Loan Servicers, the Federal Perkins Loan Servicer, and guaranty agencies;

(14) to help governmental entities at the Federal, State, Tribal, and local levels exercise their supervisory and administrative powers (including, but not limited to, licensure, examination, discipline, regulation, or oversight of educational institutions, Department contractors, guaranty agencies, eligible lenders, and third-party servicers) or to investigate, respond to, or resolve complaints regarding the practices or processes of the Department and/or the Department's contractors, or to update information or correct errors contained in Department records regarding an aid recipient's title IV, HEA program funds;

(15) to provide information to support web-based access to aid applicant's and recipient's title IV, HEA program data including enrollment;

(16) to track loan transfers from one holder or servicer to another; and

(17) to provide title IV, HEA loan information to support the calculation of monthly payment amounts under Income-Driven Repayment (IDR) plans.

CATEGORIES OF INDIVIDUALS COVERED BY THE SYSTEM:

This system contains records on individual title IV, HEA aid applicants and recipients.

This system also contains information on the parent(s) of a dependent aid applicant or recipient and the spouse of a married aid applicant or recipient.

In addition, this system contains records on aid recipients and endorsers who received, or signed the promissory note for a loan(s) under one of the programs authorized under title IV of the HEA, including:

(1) the William D. Ford Direct Loan Program (Direct Loan) Program, including Federal Direct Unsubsidized and Subsidized Stafford/Ford Loans, Federal Direct Consolidation Loans, and Federal Direct PLUS Loans;

(2) the Federal Family Education Loan (FFEL) Program,

(3) the Federal Insured Student Loan (FISL) Program,

(4) the Federal Perkins Loan Program (including National Defense Student Loans, National Direct Student Loans, and Perkins Expanded Lending and Income Contingent Loans) (Perkins Loans).

This system also contains records on aid recipients of Federal Pell Grants, ACG, National SMART Grants, TEACH Grants, Iraq and Afghanistan Service Grants, the FWS Program, and FSEOGs, as well as on individuals who owe an overpayment on a Federal Pell Grant, an ACG, a TEACH Grant, a National SMART Grant, a FSEOG, an Iraq and Afghanistan Service Grant, or a Federal Perkins Loan.

Further, this system contains student enrollment information for individuals who have received title IV, HEA student assistance, as well as Master Conduit Loan Program Data, Master Loan Participation Program (LPP) Data, and loan-level detail on FFEL Subsidized, Unsubsidized, and Grad and Parent PLUS loans funded through those programs.

This system also contains records on students who are title IV, HEA aid recipients and who attended, or who are attending, a gainful employment program at a postsecondary institution.

Lastly, this system contains records from 2014-2021 on the level of study, CIP code, and published length of an educational program in which a student receiving title IV, HEA Federal student aid was enrolled to limit his or her eligibility for Direct Subsidized Loans to no more than 150 percent of the published length of the educational program in which the student was enrolled, and to determine when a aid recipient who enrolled after reaching the 150 percent limit would have been responsible for the accruing interest on outstanding Direct Subsidized Loans.

CATEGORIES OF RECORDS IN THE SYSTEM:

Note: The Federal Tax Information (FTI) that the Department will obtain directly from the Internal Revenue Service (IRS) under the Fostering Undergraduate Talent by Unlocking Resources for Education (FUTURE) Act will be maintained in a separate system of records entitled the “FUTURE Act System (FAS)” (18-11-23);

Records in the NSLDS include, but are not limited to:

(1) aid applicant and recipient identifier information, including SSN, name, date of birth, physical address, phone number, email address, and driver's license number and State of issuance;

(2) aid applicant demographic information, including an aid applicant's parent's and spouse's demographic information (if applicable), student enrollment, incarcerated student indicator flag, list of participating title IV, HEA institutions of higher education selected by the aid applicant to receive the Free Application for Federal Student Aid (FAFSA®) data along with residency plans, and the financial profile of an applicant and an aid applicant's parent(s) or spouse, as reported and calculated through the FAFSA form; and processing flags, indicators, rejections, and overrides;

(3) information on the aid recipient's loan(s) covering the period from the origination of the loan through final payment, consolidation, discharge, or other final disposition, including details such as loan amount, disbursements, balances, loan status, repayment plan payments and related information, collections, claims, deferments, forbearances, refunds, and discharges;

(4) information on an aid applicant's or recipient's endorser or co-signer of a PLUS loan application from the origination of the loan through final payment, consolidation, discharge, or other final disposition, including details such as co-signer SSN, name, date of birth, driver's license number and State of issuance (if reported), active-duty status (if applicable and reported), email address, address, phone number, and relevant loan information with respect to the loan on which they are the endorser or co-signer;

(5) for students who began a program of study that prepares them for gainful employment in a recognized occupation pursuant to sections 1001 and 1002 of the HEA (“gainful employment program”), student identifiers including the student's SSN, date of birth, and name, student enrollment information including the Office of Postsecondary Education identification number (OPE ID number) of the institution, the CIP code for the gainful employment program in which the student enrolled, and, if the student completed the program, the completion date and the CIP code of the completed program, the level of study, the amount of the student's private educational loan debt, the amount of institutionally provided financing owed by the student, and whether the student matriculated to a higher credentialed program at the same institution or another institution;

(6) aggregated income information on graduates and non-completers of a particular gainful employment program, and the median loan debt incurred by students enrolled in the gainful employment program, regardless of whether they completed the program;

(7) student demographic information, such as dependency status, citizenship, veteran status, marital status, gender, income and asset information (including income and asset information on the student's spouse, if married), and expected family contribution or Student Aid Index (SAI);

(8) information on the parent(s) of a dependent aid applicant or aid recipient or the spouse of an independent aid applicant or aid recipient, including name, date of birth, SSN, marital status, email address, highest level of schooling completed and starting with award year 2024-2025, the parents' college attendance status, and income and asset information;

(9) information related to an aid applicant's or recipient's application for title IV, HEA benefits, including information relating to IDR or PSLF eligibility such as current income; family size; repayment plan selections; employer name; dates of employment; employment status; if the IDR aid applicant or aid recipient (or spouse, where applicable), provided consent/affirmative approval both to redisclose Federal Tax Information (FTI) of such individuals pursuant to clauses (iii), (iv), (v), and (vi) of section 6103(l)(13)(D) of the Internal Revenue Code (IRC) of 1986 and under subsection 494(a) of the HEA (20 U.S.C. 1098h(a)) of information to the IRS for the IRS to disclose FTI to the Department as part of a matching program to determine eligibility for, or repayment obligations under, IDR plans under title IV of the HEA with respect to loans under part D (Direct Loan program) of title IV of the HEA; repayment amount; and information about the aid recipient's spouse, if the aid applicant or recipient is married;

(10) Federal Pell Grant, FSEOG, ACG Grant, National SMART Grant, TEACH Grant, and Iraq and Afghanistan Service Grant amounts, dates of disbursement, and for Federal Pell Grants, approved PEPs (the FAFSA Simplification Act allows for expanding access to Federal Pell Grants to include Federal and State penal facilities' approved educational programs);

(11) Federal Pell Grant, ACG Grant, National SMART Grant, TEACH Grant, Iraq and Afghanistan Service Grant, FSEOG, Federal Perkins Loan Program overpayment amounts and/or earning amounts under the FWS Program;

(12) Information maintained by a guaranty agency, including, demographic, contact, and identifier information, a aid applicant's FFEL loan(s), and the lender(s), holder(s), and servicer(s) of the borrower's FFEL loan(s);

(13) NSLDS user profiles that include name, SSN, date of birth, employer, and NSLDS username;

(14) information concerning the date of any default on loans and the aggregated loan data to support cohort default rate calculations for educational institutions, financial institutions, and guaranty agencies;

(15) pre- and post-screening results used to determine a student's or parent's aid eligibility;

(16) information on financial institutions participating in the loan participation and sale programs established by the Department under ECASLA, including the collection of: ECASLA loan-level funding amounts, dates of ECASLA participation for financial institutions, dates and amounts of loans sold to the Department under ECASLA, and the amount of loans funded by the Department's programs but repurchased by the lender;

(17) information on the student's educational institution, level of study, the CIP code, and published length for the program in which the student enrolled for an institution or programs of studies at the institution;

(18) information obtained pursuant to matching programs or other information exchanges with Federal and State agencies and other administrators of Federal funds and programs to assist in identifying individuals who may be eligible for aid applicant's or recipient's benefits related to their title IV, HEA loans or other title IV, HEA obligations, including TPD discharges, loan deferments, interest rate reductions, PSLF, and other Federal and State loan repayment or discharge benefits, or for the purpose of recouping payments or delinquent debts under title IV, HEA programs; and

(19) Information provided and generated through customer interactions with contact center support via inbound and outbound channels (phone, chat, webform, email, customer satisfaction survey, fax, physical mail, and digital engagement platforms). Information includes, but is not limited to: chat transcripts, email communications, audio recordings of customer calls, and screen recordings of contact center desktop support during customer interactions.

RECORD SOURCE CATEGORIES:

Information is obtained from other Federal, State, local, and Tribal agencies, other administrators of Federal funds and programs, guaranty agencies, educational institutions, financial institutions and servicers, aid applicants and recipients, parents and spouses of applicable aid applicants and recipients, and designated co-signers and endorsers.

Information is also obtained from other Department systems, or their successor systems, such as the Federal Loan Servicers (covered by the system of records entitled “Common Services for Borrowers (CSB)”); Debt Management Collection System (covered by the system of records entitled “Common Services for Borrowers (CSB)”); Common Origination and Disbursement System (covered by the system of records entitled “Common Origination and Disbursement (COD) System”); Financial Management System (covered by the system of records entitled “Financial Management System (FMS)”); Student Aid internet Gateway, Participant Management System (covered by the system of records entitled “Student Aid internet Gateway (SAIG), Participation Management System”); Postsecondary Education Participants System (covered by the system of records entitled “Postsecondary Education Participants System”); and all systems covered by the system of records entitled “Aid Awareness and Application Processing.” Information in this system also may be obtained from other persons or entities from which data is obtained under routine uses set forth below.

ROUTINE USES OF RECORDS MAINTAINED IN THE SYSTEM, INCLUDING CATEGORIES OF USERS AND PURPOSES OF SUCH USES:

The Department may disclose information contained in a record in this system of records under the routine uses listed in this system of records notice without the consent of the individual if the disclosure is compatible with the purposes for which the record was collected. These disclosures may be made on a case-by-case basis or, if the Department has complied with the computer matching requirements of the Privacy Act of 1974, as amended (Privacy Act), under a computer matching agreement.

(1) Program Disclosures. The Department may disclose records to the specified users for the following program purposes:

(a) To verify the identity of the applicant involved, the accuracy of the record, or to assist with the determination of program eligibility and benefits, as well as institutional program eligibility, the Department may disclose records to the applicant, guaranty agencies, educational institutions, financial institutions and servicers, and to Federal and State agencies;

(b) To support default rate calculations and/or provide information on aid recipients' current loan status, the Department may disclose records to guaranty agencies, educational institutions, financial institutions and servicers, and State agencies;

(c) To determine if educational programs lead to gainful employment in a recognized occupation, the Department may disclose records to educational institutions;

(d) To provide financial aid history information to aid in their administration of title IV, HEA programs, the Department may disclose records to educational institutions, guaranty agencies, loan holders, or servicers;

(e) To support auditors and program reviewers in planning and carrying out their assessments of title IV, HEA program compliance, the Department may disclose records to guaranty agencies, educational institutions, financial institutions and servicers, and to Federal, State, and local agencies;

(f) To support governmental researchers and policy analysts, the Department may disclose records to governmental organizations at the Federal, State, or local level, using safeguards for system integrity and provided that the recipient agrees to establish and maintain safeguards to protect the security and confidentiality of the disclosed records;

(g) To support Federal budget analysts in the development of budget needs and forecasts, the Department may disclose records to the Congressional Budget Office (CBO) and to Federal and State agencies;

(h) To assist in locating holders of loan(s), the Department may disclose records to guaranty agencies, educational institutions, financial institutions and servicers, and Federal agencies;

(i) To assist analysts in assessing title IV, HEA program participation by guaranty agencies, educational institutions, and financial institutions and servicers, the Department may disclose records to Federal and State agencies;

(j) To assist loan holders in locating aid recipients, the Department may disclose records to guaranty agencies, educational institutions, financial institutions that hold an interest in the loan and their servicers, and to Federal agencies;

(k) To assist with meeting requirements under the CRA, the Department may disclose records to Federal agencies;

(l) To assist program administrators with tracking refunds and discharges of title IV, HEA loans, the Department may disclose records to guaranty agencies, educational institutions, financial institutions and servicers, and to Federal and State agencies;

(m) To enforce the terms of a loan, assist in the collection of a loan, or assist in the collection of an aid overpayment, the Department may disclose records to guaranty agencies, loan servicers, educational institutions and financial institutions, to the DOJ and private counsel retained by the DOJ, and to other Federal, State, local, or Tribal agencies;

(n) To assist the Department in tracking loans funded under ECASLA, the Department may disclose records to Federal agencies;

(o) To obtain data needed to assist the Department in evaluating the effectiveness of an institution's education programs and to provide the public with greater transparency about the level of economic return of an educational institution and their programs that receive title IV, HEA program assistance, the Department may disclose records to educational institutions and to Federal and State agencies, including the Social Security Administration and the U.S. Department of the Treasury; and

(p) To help Federal, State, Tribal, and local governmental entities exercise their supervisory and administrative powers (including licensure, examination, discipline, regulation, or oversight of educational institutions, Department contractors, guaranty agencies, eligible lenders, and third-party servicers) or to investigate, respond to, or resolve complaints submitted regarding the practices or processes of the Department and/or the Department's contractors, the Department may disclose records to governmental entities at the Federal, State, Tribal, and local levels. These records may include all aspects of records relating to loans and grants made under title IV of the HEA, to permit these governmental entities to verify compliance with debt collection, consumer protection, financial, and other applicable statutory, regulatory, or local requirements. Before making a disclosure to these Federal, State, local, or Tribal governmental entities, the Department will require them to maintain safeguards consistent with the Privacy Act to protect the security and confidentiality of the disclosed records.

(2) Enforcement Disclosure. In the event that information in this system of records indicates, either on its face or in connection with other information, a violation or potential violation of any applicable statute, regulation, or order of a competent authority, the Department may disclose the relevant records to the appropriate agency, whether foreign, Federal, State, Tribal, or local, charged with the responsibility of investigating or prosecuting that violation or charged with enforcing or implementing the statute, Executive Order, rule, regulation, or order issued pursuant thereto.

(3) Litigation and Alternative Dispute Resolution (ADR) Disclosure.

(a) Introduction. In the event that one of the following parties listed in sub-paragraphs (i) through (v) is involved in judicial or administrative litigation or ADR, or has an interest in such litigation or ADR, the Department may disclose certain records to the parties described in paragraphs (b), (c), and (d) of this routine use under the conditions specified in those paragraphs:

(i) The Department or any of its components; or

(ii) Any Department employee in his or her official capacity; or

(iii) Any Department employee in his or her individual capacity where the DOJ agrees to or has been requested to provide or arrange for representation of the employee; or

(iv) Any Department employee in his or her individual capacity where the Department requests representation for or has agreed to represent the employee; or

(v) The United States, where the Department determines that the litigation is likely to affect the Department or any of its components.

(b) Disclosure to the DOJ. If the Department determines that disclosure of certain records to the DOJ is relevant and necessary to the judicial or administrative litigation or ADR, the Department may disclose those records as a routine use to the DOJ.

(c) Adjudicative Disclosure. If the Department determines that disclosure of certain records to an adjudicative body before which the Department is authorized to appear or to a person or entity designated by the Department or otherwise empowered to resolve or mediate disputes is relevant and necessary to judicial or administrative litigation or ADR, the Department may disclose those records as a routine use to the adjudicative body, person, or entity.

(d) Disclosure to Parties, Counsel, Representatives, and Witnesses. If the Department determines that disclosure of certain records is relevant and necessary to judicial or administrative litigation or ADR, the Department may disclose those records as a routine use to the party, counsel, representative, or witness.

(4) Freedom of Information Act (FOIA) or Privacy Act Advice Disclosure. The Department may disclose records to the DOJ or the Office of Management and Budget (OMB) if the Department seeks advice regarding whether records maintained in this system of records are required to be disclosed under the FOIA or the Privacy Act.

(5) Contract Disclosure. If the Department contracts with an entity to perform any function that requires disclosing records to the contractor's employees, the Department may disclose the records to those employees. As part of such a contract, the Department shall require the contractor to agree to establish and maintain safeguards to protect the security and confidentiality of the disclosed records.

(6) Congressional Member Disclosure. The Department may disclose records to a Member of Congress in response to an inquiry from the Member made at the written request of and on behalf of the individual whose records are being disclosed. The Member's right to the information is no greater than the right of the individual who requested it.

(7) Employment, Benefit, and Contracting Disclosure.

(a) For Decisions by the Department. The Department may disclose a record to a Federal, State, or local agency maintaining civil, criminal, or other relevant enforcement or other pertinent records, or to another public authority or professional organization, if necessary to obtain information relevant to a Departmental decision concerning the hiring or retention of an employee or other personnel action, the issuance of a security clearance, the letting of a contract, or the issuance of a license, grant, or other benefit.

(b) For Decisions by Other Public Agencies or their Agents or Contractors, Professional Organizations, or the Department's Contractors. The Department may disclose a record to a Federal, State, local, Tribal or other public agency or an agent or contractor of such a public agency, a professional organization, or a Department contractor, in connection with the hiring or retention of an employee or other personnel action, the issuance of a security clearance, the reporting of an investigation of an employee, the letting of a contract, or the issuance of a license, grant, or other benefit, to the extent that the record is relevant and necessary to the receiving entity's decision on the matter.

(8) Employee Grievance, Complaint, or Conduct Disclosure. If a record is relevant and necessary to a grievance, complaint, or disciplinary proceeding involving a present or former employee of the Department, the Department may disclose a record from this system of records during the course of investigation, fact-finding, mediation, or adjudication to any party to the grievance, complaint, or action to the party's counsel or representative, to a witness, or to a designated fact-finder, mediator, or other person designated to resolve issues or decide the matter.

(9) Labor Organization Disclosure. The Department may disclose records from this system of records to an arbitrator to resolve disputes under a negotiated grievance procedure or to officials of labor organizations recognized under 5 U.S.C. 71 when relevant and necessary to their duties of exclusive representation.

(10) Disclosure to the DOJ. The Department may disclose records to the DOJ to the extent necessary for obtaining DOJ advice on any matter relevant to an audit, inspection, or other inquiry related to the programs covered by this system.

(11) Disclosure to the OMB or CBO for CRA Support. The Department may disclose records to OMB or CBO as necessary to fulfill CRA requirements in accordance with 2 U.S.C. 661b.

(12) Disclosure in the Course of Responding to Breach of Data. The Department may disclose records from this system to appropriate agencies, entities, and persons when: (a) The Department suspects or has confirmed that there has been a breach of the system of records; (b) the Department has determined that as a result of the suspected or confirmed breach there is a risk of harm to individuals, the Department (including its information systems, programs and operations), the Federal Government, or national security; and (c) the disclosure made to such agencies, entities, and persons is reasonably necessary to assist in connection with the Department's efforts to respond to the suspected or confirmed breach or to prevent, minimize, or remedy such harm.

(13) Disclosure in Assisting Another Agency in Responding to a Breach of Data. The Department may disclose records from this system to another Federal agency or Federal entity, when the Department determines that information from this system of records is reasonably necessary to assist the recipient agency or entity in (a) responding to a suspected or confirmed breach or (b) preventing, minimizing, or remedying the risk of harm to individuals, the recipient agency or entity (including its information systems, programs, and operations), the Federal Government, or national security, resulting from a suspected or confirmed breach.

(14) Disclosure to the National Archives and Records Administration (NARA). The Department may disclose records from this system of records to NARA for the purpose of records management inspections conducted under the authority of 44 U.S.C. 2904 and 2906.

DISCLOSURE TO CONSUMER REPORTING AGENCIES:

Disclosures pursuant to 5 U.S.C. 552a(b)(12): The Department may disclose the following information to a consumer reporting agency regarding a valid overdue claim of the Department: (1) the name, address, taxpayer identification number, and other information necessary to establish the identity of the individual responsible for the claim; (2) the amount, status, and history of the claim; and (3) the program under which the claim arose. The Department may disclose the information specified in this paragraph under 5 U.S.C. 552a(b)(12) and the procedures contained in subsection 31 U.S.C. 3711(e). A consumer reporting agency to which these disclosures may be made is defined in 15 U.S.C. 1681a(f) and 31 U.S.C. 3701(a)(3).

POLICIES AND PRACTICES FOR STORAGE OF RECORDS:

The records are maintained electronically.

POLICIES AND PRACTICES FOR RETRIEVAL OF RECORDS:

In order for users to retrieve aid applicant or recipient information, they must supply the respective SSN, name, and date of birth.

POLICIES AND PRACTICES FOR RETENTION AND DISPOSAL OF RECORDS:

Records are primarily retained and disposed of in accordance with ED Records Schedule 051: FSA National Student Loan Data System (NSLDS) (DAA-0441-2017-0004) (ED 051). The Department has submitted amendments to ED 051 for NARA's consideration and will not destroy records covered by ED 051 until such amendments are in effect, as applicable.

ADMINISTRATIVE, TECHNICAL, AND PHYSICAL SAFEGUARDS:

Authorized users: Access to the system is limited to authorized NSLDS program personnel and contractors responsible for administering the NSLDS program. Authorized personnel include Department employees and officials, financial and fiscal management personnel, computer personnel, and program managers who have responsibilities for implementing the NSLDS program. Read-only users: Read-only access is given to servicers, holders, financial/fiscal management personnel, and institutional personnel.

Physical safeguards: Magnetic tapes, disc packs, computer equipment, and other forms of data are maintained in areas where fire and life safety codes are strictly enforced. Security guards are staffed 24 hours a day, seven days a week, to perform random checks on the physical security of the record storage areas.

Procedural safeguards: A password is required to access the terminal, and a data set name controls the release of data to only authorized users. In addition, all sensitive data is encrypted using Oracle Transparent Data Encryption functionality. Access to records is strictly limited to those staff members trained in accordance with the Privacy Act and Automatic Data Processing (ADP) security procedures. Contractors are required to maintain confidentiality safeguards with respect to these records. Contractors are instructed to make no further disclosure of the records except as authorized by the System Manager and permitted by the Privacy Act. All individuals who have access to these records receive appropriate ADP security clearances.

Department personnel make site visits to ADP facilities for the purpose of ensuring that ADP security procedures continue to be met. Privacy Act and ADP system security requirements are specifically included in contracts. The NSLDS project directors, project officers, and the system manager oversee compliance with these requirements.

In accordance with the Federal Information Security Management Act of 2002 (FISMA), as amended by the Federal Information Security Modernization Act of 2014, every Department system must receive a signed Authorization to Operate (ATO) from a designated Department official. The ATO process includes a rigorous assessment of security controls, a plan of actions and milestones to remediate any identified deficiencies, and a continuous monitoring program.

FISMA controls implemented are comprised of a combination of management, operational, and technical controls, and include the following control families: access control, awareness and training, audit and accountability, security assessment and authorization, configuration management, contingency planning, identification and authentication, incident response, maintenance, media protection, physical and environmental protection, planning, personnel security, privacy, risk assessment, system and services acquisition, system and communications protection, system and information integrity, and program management.

RECORD ACCESS PROCEDURES:

If you wish to gain access to a record in this system, you must contact the system manager with the necessary particulars such as your name, date of birth, SSN, the name of the school or lender from which the loan or grant was obtained, and any other identifying information requested by the Department while processing the request, to distinguish between individuals with the same name. Requests by an individual for access to a record must meet the requirements of the regulations at 34 CFR 5b.5, including proof of identity.

Contesting Record Procedures:

If you wish to contest the content of a record in the system of records, you must contact the system manager with the necessary particulars such as your name, date of birth, SSN, the name of the school or lender from which the loan or grant was obtained, and any other identifying information requested by the Department while processing the request, to distinguish between individuals with the same name. You must also identify the specific item(s) to be changed, and provide a justification for the change, including any supporting documentation. Requests to amend a record must meet the requirements of the Department's Privacy Act regulations at 34 CFR 5b.7.

NOTIFICATION PROCEDURES:

If you wish to determine whether a record exists regarding you in this system of records, you must contact the system manager with the necessary particulars such as your name, date of birth, SSN, the name of the school or lender from which the loan or grant was obtained, and any other identifying information requested by the Department while processing the request, to distinguish between individuals with the same name. Requests for notification about whether the system of records contains information about an individual must meet the requirements of the regulations at 34 CFR 5b.5, including proof of identity.

EXEMPTIONS PROMULGATED FOR THE SYSTEM:

None.

HISTORY:

The System of Records entitled the “National Student Loan Data System” (18-11-06) was last modified and published in full on September 22, 2022 (87 FR 57873).

[FR Doc. 2023-13697 Filed 6-27-23; 8:45 am]

BILLING CODE 4000-01-P